ENVIRONMENTAL PROTECTION AGENCY

[EPA-HQ-OA-2013-0125; FRL-9795-7]

National and Governmental Advisory Committees to the U.S. Representative to the Commission for Environmental Cooperation

AGENCY: Environmental Protection Agency (EPA).

ACTION: Notice of Advisory Committee Meeting Teleconference Call.

SUMMARY: Under the Federal Advisory Committee Act, Public Law 92-463, EPA gives notice of a meeting of the National Advisory Committee (NAC) and Governmental Advisory Committee (GAC) to the U.S. Representative to the North American Commission for Environmental Cooperation (CEC). The National and Governmental Advisory Committees advise the EPA Administrator in his capacity as the U.S. Representative to the CEC Council. The Committees are authorized under Articles 17 and 18 of the North American Agreement on Environmental Cooperation (NAAEC), North American Free Trade Agreement Implementation Act, Public Law 103-182, and as directed by Executive Order 12915, entitled “Federal Implementation of the North American Agreement on Environmental Cooperation.” The NAC is composed of 14 members representing academia, environmental non-governmental organizations, and private industry. The GAC consists of 15 members representing state, local, and Tribal governments. The Committees are responsible for providing advice to the U.S. Representative on a wide range of strategic, scientific, technological, regulatory, and economic issues related to implementation and further elaboration of the NAAEC.

The purpose of this committee meeting is to provide advice on the 2013-14 Draft Operational Plan and Budget of the CEC and to discuss other trade and environment issues related to the NAAEC. The meeting will also include a public comment session. The agenda and meeting materials will be available at http://www.regulations.gov under Docket ID: EPA-HQ-OA-2013-0125. General information about NAC and GAC can be found at http://www.epa.gov/ofacmo/nacgac-page.htm.

DATES: The NAC/GAC will hold a public teleconference on Thursday, April 25, 2013, from 12:00 p.m. to 4:00 p.m. Eastern Standard Time.

ADDRESSES: The meeting will be held at the U.S. EPA East Building, 1201 Constitution Avenue NW., Room 1132, Washington, DC 20004

FOR FURTHER INFORMATION CONTACT: Oscar Carrillo, Designated Federal Officer, carrillo.oscar@epa.gov, 202-564-0347, U.S. EPA, Office of Federal Advisory Committee Management and Outreach (1601-M), 1200 Pennsylvania Avenue NW., Washington, DC 20460.

SUPPLEMENTARY INFORMATION: Requests to make oral comments or to provide written comments to NAC/GAC should be sent to Oscar Carrillo at carrillo.oscar@epa.gov by Wednesday, April 17, 2013. The meeting is open to the public, with limited seating on a first-come, first-served basis. Members of the public wishing to participate in the teleconference should contact Oscar Carrillo at carrillo.oscar@epa.gov or (202) 564-0347 by April 17, 2013.

Meeting Access: For information on access or services for individuals with disabilities, please contact Oscar Carrillo at 202-564-0347 or carrillo.oscar@epa.gov. To request accommodation of a disability, please contact Oscar Carrillo, preferably at least 10 days prior to the meeting, to give EPA as much time as possible to process your request.

Dated: March 20, 2013.
Oscar Carrillo,
Designated Federal Officer.

[FR Doc. 2013-07389 Filed 3-29-13; 8:45 am]

BILLING CODE 6560-50-P